DEPARTMENT OF JUSTICE

Antitrust Division

Notice Pursuant to the National Cooperative Research and Production Act of 1993—Undersea Technology Innovation Consortium

Notice is hereby given that, on July 13, 2020, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, ARMADA Marine Robotics, Falmouth, MA; Autonomous Surface Vehicles, LLC, Broussard, LA; Aviation & Missile Solutions, Huntsville, AL; Boston Fusion Corp., Lexington, MA; Constellation Software Engineering, Corp., dBA CS Engineering, Annapolis, MD; Critical Frequency Design, Melbourne, FL; Curtiss-Wright Electro-Mechanical Corporation, Bethlehem, PA; Deloitte Consulting LLP, Arlington, VA; Design Interactive, Orlando, FL; Hybrid Design Services, Inc., Troy, MI; I-Assure, LLC, Mandeville, LA; Intellisense Systems, Inc., Torrance, CA; Kenautics, Inc., Encinitas, CA; Kord Technologies, LLC, Huntsville, AL; Long Wave Inc., Oklahoma City, OK; NetApp US Public Sector, Inc., Vienna, VA; Omni Federal, Gainesville, VA; Opal Soft, Inc., Sunnyvale, CA; Palantir USG, Inc., Palo Alto, CA; Peraton Inc., Herndon, VA; Polaris Alpha Advanced Systems, Fredericksburg, VA; Problem Solutions, LLC, Johnstown, PA; Probus Test Systems Inc., Lincroft, NJ; QuickFlex Inc., San Antonio, TX; R2C Support Services, Huntsville, AL; Saltenna, LLC, McClean, VA; Savant Financial Technologies Inc., dba Ariel Partners, New York, NY; Sedna Digital Solutions, LLC, Manassas, VA; SimVentions, Inc., Fredericksburg, VA; SRI International, Menlo Park, CA; Terradepth, Inc., Austin, TX; Tridentis, LLC, Alexandria, VA; Voltaiq, Inc., Berkeley, CA; W.S. Darley and Company, Itasca, IL; and WPI Services, LLC DBA Systecon North America, Juno Beach, FL have been added as parties to this venture.

Also, Platron Manufacturing, Pflugerville, TX has withdrawn as a party from this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on April 22, 2020. A notice was published in the Federal Register pursuant to Section 6(b) of the Act on May 6, 2020 (85 FR 26989).

Suzanne Morris,
Chief, Premerger and Division Statistics, Antitrust Division.

[FR Doc. 2020-16638 Filed 7-30-20; 8:45 am]

BILLING CODE P